DEPARTMENT OF AGRICULTURE

Economic Research Service

Notice of Intent To Seek Approval To Collect Information

AGENCY: Economic Research Service, USDA.

ACTION: Notice and request for comments.

SUMMARY: In accordance with the Paperwork Reduction Act of 1995 (Pub. L. 104-13) and Office of Management and Budget (OMB) regulations at 5 CFR part 1320 (60 FR 44978, August 29, 1995), this notice announces the Economic Research Service's (ERS) intention to request OMB approval for a new information collection from Summer Food Service Program (SFSP) state agencies, sponsoring organizations, former sponsoring organizations, site directors, school food authorities, and from parents or guardians of elementary-school-age children who live near SFSP sites.

DATES: Comments on this notice must be received by January 19, 2001 to be assured of consideration.

ADDITIONAL INFORMATION OR COMMENTS: Requests for additional information should be directed to Jane Allshouse, Diet, Safety, and Health Economics Branch, Food and Rural Economics Division, Economic Research Service, U.S. Department of Agriculture, 1800 M Street, NW., Washington, DC 20036-5831, tel. 202-694-5449. Submit electronic comments to allshous@ers.usda.gov.

SUPPLEMENTARY INFORMATION: Title: Application for ERS collection of information for an SFSP Implementation Study.

OMB Number: Not yet assigned.

Expiration Date: N/A.

Type of Request: Approval for new data collection from SFSP state agencies, sponsoring organizations, former sponsors, site directors, School Food Authorities near SFSP sites, and parents or guardians of elementary-school-age children who live near SFSP sites.

Abstract: USDA needs to obtain detailed information on SFSP operations and administration and to learn more about the factors that contribute to the large gap in participation levels between the National School Lunch Program (NSLP) and the SFSP. Such knowledge will help the USDA determine whether future changes in SFSP policy are warranted. Currently, very little administrative data are collected at the national level on the operations of this program. Furthermore, the last national study of the program collected data in 1986.

To evaluate how program operations contribute to participation levels and the nutritional benefits of SFSP participation, and to study the characteristics of participants and eligible nonparticipants and the factors affecting participation, many kinds of information must be obtained. Data for this study will be collected from five separate, but related, constituencies:

• Program staff at the state agency or USDA Food and Nutrition Service (FNS) regional office.

• Current SFSP sponsors, who may be School Food Authorities, government agencies, public or nonprofit residential camps, National Youth Sports Camps, or other nonprofit organizations.

• Former SFSP sponsors who recently left the program.

• Site directors (in conjunction with site visits to observe operations, meal content, and the extent of plate waste).

• Parents or guardians of participating and eligible nonparticipating children of elementary school age who live near SFSP sites.

The data will be collected on a one-time basis in 2001, to provide USDA and Congress with information prior to the next reauthorization of the SFSP.

The information collected will help USDA to describe program operations at all administrative levels, and to identify possible barriers to program participation by low-income children.

Obtaining sample frame information for the study will require data collection at several stages. State agencies will be contacted several times for lists of sponsors and their sites. Some sites operating in the prior year will be selected as locations for the participant-nonparticipant study, and School Food Authorities near these sites will be contacted to request lists of students who receive free or reduced-price school lunches at the elementary schools closest to the selected sites. These school lists will provide the sample frame for the parent survey. Sponsors selected for the sample will be contacted to provide updated site lists in early summer.

State data collection will involve telephone interviews with state administrators from all 54 states and territories that offer the SFSP (or, in a few states, with the FNS regional office staff who administer the program).¹ In addition, states will be asked to provide administrative data on the sponsors and sites sampled for detailed study. At substate levels, samples will be selected to provide estimates with a 10 percent coefficient of variation or less, when weighted by the number of participants served at each level. All samples will be nationally representative; they will be selected with probability proportional to size, where the measure of size will be average daily attendance at SFSP sites administered. A national sample of 120 sponsors will have the option of completing a self-administered mail survey or a telephone interview. One hundred former sponsors will be interviewed by telephone to provide information on why sponsors leave the SFSP. Site directors at 150 sites will be interviewed in person, and their sites will be observed by trained site visitors. Finally, a sample of 1,200 parents or guardians of elementary-school-age children eligible to participate at nearby SFSP sites will be interviewed by telephone, using computer-assisted telephone interviewing (CATI).

¹ The FNS regional office administers the program in Michigan and Virginia, and divides responsibilities in New York with the New York Department of Education. Thus, there will be two state interviews in New York, or 55 total.

Respondent burden will be minimized for the parent survey by using CATI methods to streamline the interviewing process, and by carefully training interviewing staff on survey procedures. Burden will be minimized at other levels by relying on administrative records for variables that are consistently available across states. In addition, states, sponsors, and School Food Authorities will be encouraged to provide lists or other administrative records in whatever form is most convenient to them.

Responses will be voluntary and confidential, except for aggregate data that are already published from administrative records. To ensure confidentiality, data will be reported only in tabular form, with analysis cells large enough to prevent identification of individual agencies or families. In addition, identifying information will be kept only by the contractor and will be released only to the contractor's internal staff who need it directly for the survey and analysis operations.

Estimate of Burden: To develop the sample frame and obtain administrative records, we estimate the burden to be as follows:

State administrators—40 hours each (Sponsor and site lists and administrative records will only be obtained for the 50 states and the District of Columbia.)

Sponsors—4 hours each

School Food Authorities—8 hours each

To complete the interviews, the estimated burden is:

State administrators—1 hour to prepare for the interview, 45 minutes to complete the interview ²

² There will be two state interviews for New York, as noted above.

Sponsors—1 hour to complete either the self-administered questionnaire or the telephone interview, 30 minutes to look up information for the interview, plus a 15-minute phone call to inform sponsor about site visits

Former Sponsors—30 minutes each

Site Directors—30 minutes for the interview, plus 30 minutes for explanation and discussion of the site visit, including the meal and plate waste observation

Eligible Parents or Guardians—25 minutes each

Ineligible Parents or Guardians—2 minutes each for screening questions ³

³ Parents or guardians will be ineligible if their children are away for the summer, or if the family has moved out of the area near the SFSP site.

Respondents: Respondents include federal, state, and local government staff, school district staff, and staff from local nonprofit organizations that sponsor the SFSP or have in the recent past, and private citizens.

Estimated Number of Respondents: 1,655 in total: 55 state administrators, 120 sponsors, 30 school food authorities, 100 former sponsors, 150 site directors, 1,200 parents or guardians of elementary-school-age children.

Estimated Total Annual Burden on Respondents: Total of 3768 hours.

Comments: Comments are invited on (a) whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who are to respond, including the use of appropriate automated, electronic, mechanical, or other technology. Comments should be sent to the address stated in the preamble. All responses to this notice will be summarized and included in the request for Office of Management and Budget (OMB) approval. All comments will also become a matter of public record.

Dated: October 30, 2000.
Betsey Kuhn,
Director, Food and Rural Economics Division.

[FR Doc. 00-29563 Filed 11-17-00; 8:45 am]

BILLING CODE 3410-18-P